DEPARTMENT OF ENERGY

Federal Energy Regulatory Commission

Combined Notice of Filings #1

Take notice that the Commission received the following electric rate filings:

Docket Numbers: ER10-1852-108; ER19-774-014; ER10-2641-052.

Applicants: Oleander Power Project, Limited Partnership, Stanton Clean Energy, LLC, Florida Power & Light Company.

Description: Notice of Change in Status of Florida Power & Light Company, et al.

Filed Date: 4/28/25.

Accession Number: 20250428-5311.

Comment Date: 5 p.m. ET 5/19/25.

Docket Numbers: ER10-3181-007; ER17-424-011; ER17-991-011; ER13-823-009; ER12-1561-006; ER15-1348-004; ER24-2589-003; ER24-2590-003.

Applicants: Castleton Commodities Energy Trading LLC, Castleton Commodities Energy Services LLC, Roseton Generating LLC, LDH Rensselaer LLC, Castleton Commodities Merchant Trading L.P., Hunlock Energy, LLC, Footprint Power Salem Harbor Development LP, UGI Development Company.

Description: Notice of Non-Material Change in Status of Hunlock Creek Generating LLC, et al.

Filed Date: 4/29/25.

Accession Number: 20250429-5383.

Comment Date: 5 p.m. ET 5/20/25.

Docket Numbers: ER13-738-013; ER11-3097-017; ER10-1186-016; ER12-421-007; ER11-2731-007.

Applicants: Heritage Stoney Corners Wind Farm I, LLC, Heritage Garden Wind Farm I, LLC, DTE Energy Supply, LLC, DTE Energy Trading, Inc., DTE Electric Company.

Description: Notice of Change in Status of DTE Electric Company, et al.

Filed Date: 4/29/25.

Accession Number: 20250429-5384.

Comment Date: 5 p.m. ET 5/20/25.

Docket Numbers: ER17-1394-012; ER10-1330-015; ER10-1427-015; ER10-2917-031; ER10-2922-031; ER11-2383-028; ER11-3376-013; ER11-3377-014; ER11-3378-014; ER12-161-034; ER12-2313-013; ER13-1139-028; ER14-1964-023; ER14-2630-021; ER16-141-012; ER16-287-017; ER17-360-007; ER17-361-007; ER17-362-007; ER17-482-017; ER17-539-006; ER17-540-006; ER19-89-004; ER19-529-022; ER19-1074-022; ER19-1075-022; ER19-2429-011; ER20-1447-013; ER20-2028-008; ER22-192-014; ER22-398-005; ER22-1010-012; ER22-1019-005; ER22-1627-006; ER23-2363-007; ER23-2481-006; ER24-443-007; ER24-444-006; ER24-1271-004; ER24-1272-004; ER24-1449-004; ER24-2271-003; ER24-2272-002; ER24-2273-003; ER24-2467-003; ER25-567-002.

Applicants: BR Pacific Hydro Power LLC, Spanish Peaks Solar LLC, Jones Farm Lane Solar, LLC, Egypt Road Solar, LLC, Aspen Road Solar 1, LLC, Goose Prairie Solar LLC, Foxglove Solar Project, LLC, Alton Post Office Solar, LLC, Deriva Energy Beckjord Storage LLC, Deriva Energy Services, LLC, Crystal Hill Solar, LLC, HXOap Solar One, LLC, AM Wind Repower LLC, Powell River Energy Inc., TerraForm IWG Acquisition Holdings II, LLC, Mesa Wind Power LLC, Evolugen Trading and Marketing LP, Bitter Ridge Wind Farm, LLC, Brookfield Energy Marketing US LLC, Brookfield Smoky Mountain Hydropower LP, Brookfield Renewable Energy Marketing US LLC, Brookfield Energy Marketing Inc., Brookfield Renewable Trading and Marketing LP, North Rosamond Solar, LLC, Wildwood Solar II, LLC, Wildwood Solar I, LLC, BREG Aggregator LLC, Rio Bravo Solar II, LLC, Pumpjack Solar I, LLC, Rio Bravo Solar I, LLC, BIF III Holtwood LLC, Conetoe II Solar, LLC, Regulus Solar, LLC, BIF II Safe Harbor Holdings, LLC, Imperial Valley Solar 1, LLC, Laurel Hill Wind Energy, LLC, Bishop Hill Energy LLC, South Hurlburt Wind, LLC, Horseshoe Bend Wind, LLC, North Hurlburt Wind, LLC, Safe Harbor Water Power Corporation, Hawks Nest Hydro LLC, Brookfield Power Piney & Deep Creek LLC, Brookfield Energy Marketing LP, North Allegheny Wind, LLC, 83WI 8me, LLC.

Description: Notice of Non-Material Change in Status of 83WI 8me, LLC, et al.

Filed Date: 4/29/25.

Accession Number: 20250429-5382.

Comment Date: 5 p.m. ET 5/20/25.

Docket Numbers: ER17-1394-011; ER10-1328-007; ER10-1-004; ER10-1330-014; ER10-1331-007; ER10-1332-007; ER10-2460-024; ER10-2461-025; ER10-2463-022; ER10-2466-025; ER10-2522-008; ER10-2567-008; ER10-2895-027; ER10-2917-030; ER10-2918-027; ER10-2920-027; ER10-2921-027; ER10-2922-030; ER10-2966-027; ER10-3167-020; ER11-2201-030; ER11-2383-027; ER11-3376-012; ER11-3377-013; ER11-3378-013; ER11-4029-024; ER12-161-033; ER12-645-030; ER12-682-025; ER12-1311-024; ER12-1502-011; ER12-1504-011; ER12-2068-024; ER12-2313-012; ER13-17-023; ER13-203-019; ER13-1139-027; ER13-1613-020; ER13-2143-020; ER14-25-025; ER14-1964-022; ER14-2630-020; ER16-61-007; ER16-63-007; ER16-64-007; ER16-141-011; ER16-287-016; ER16-355-009; ER16-2527-008; ER17-2-009; ER17-360-006; ER17-361-006; ER17-362-006; ER17-482-016; ER17-539-005; ER17-540-005; ER17-2336-010; ER18-1343-019; ER19-89-003; ER19-529-021; ER19-1074-021; ER19-1075-021; ER19-1819-009; ER19-1820-009; ER19-1821-009; ER19-2429-010; ER19-2684-005; ER19-2728-006; ER19-2729-006; ER20-1447-012; ER20-1487-007; ER20-1806-008; ER20-2028-007; ER21-2426-005; ER22-192-013; ER22-398-004; ER22-1010-011; ER22-1019-004; ER22-1627-005; ER22-1883-006; ER22-2042-005; ER23-921-004; ER23-1889-003; ER23-1939-004; ER23-2203-005; ER23-2363-006; ER23-2481-005; ER24-443-006; ER24-444-005; ER24-957-003; ER24-1271-003; ER24-1272-003; ER24-1449-003; ER24-2271-002; ER24-2272-001; ER24-2273-002; ER24-2467-002; ER24-2580-001; ER25-567-001.

Applicants: BR Pacific Hydro Power LLC, White Pine Hydro, LLC, Spanish Peaks Solar LLC, Jones Farm Lane Solar, LLC, Egypt Road Solar, LLC, Aspen Road Solar 1, LLC, Goose Prairie Solar LLC, Foxglove Solar Project, LLC, Alton Post Office Solar, LLC, Franklin Solar LLC, Deriva Energy Beckjord Storage LLC, Deriva Energy Services, LLC, Crystal Hill Solar, LLC, HXOap Solar One, LLC, Wildflower Solar, LLC, Pike Solar LLC, Sweetland Wind Farm, LLC, Black Mesa Energy, LLC, Jackpot Holdings, LLC, Ledyard Windpower, LLC,AM Wind Repower LLC, Powell River Energy Inc., TerraForm IWG Acquisition Holdings II, LLC, Mesa Wind Power LLC, Evolugen Trading and Marketing LP, CPRE 1 Lessee, LLC, Bitter Ridge Wind Farm, LLC, Catalyst Old River Hydroelectric Limited Partnership, Frontier Windpower II, LLC, Brookfield Energy Marketing US LLC, Lily Solar Lessee, LLC, Lily Solar LLC, Palmer Solar, LLC, Brookfield Smoky Mountain Hydropower LP, Speedway Solar NC, LLC, Stony Knoll Solar, LLC, Broad River Solar, LLC, Brookfield Renewable Energy Marketing US LLC, Brookfield Energy Marketing Inc., Brookfield Renewable Trading and Marketing LP, North Rosamond Solar, LLC, Carolina Solar Power, LLC, Shoreham Solar Commons LLC, Wildwood Solar II, LLC, Wildwood Solar I, LLC, BREG Aggregator LLC, Rio Bravo Solar II, LLC, Pumpjack Solar I, LLC, Rio Bravo Solar I, LLC, Frontier Windpower, LLC, Caprock Solar I LLC, Colonial Eagle Solar, LLC, BIF III Holtwood LLC, Conetoe II Solar, LLC, Tallbear Seville LLC, Seville Solar Two, LLC, Seville Solar One LLC, Regulus Solar, LLC, LSP Safe Harbor Holdings, LLC, Prairie Breeze Wind Energy LLC, Black Bear Development Holdings, LLC, Brookfield White Pine Hydro LLC, Imperial Valley Solar 1, LLC, Black Bear SO, LLC, Niagara Wind Power, LLC, Laurel Hill Wind Energy, LLC, Blue Sky East, LLC, Cimarron Windpower II, LLC, Ironwood Windpower, LLC, Stetson Holdings, LLC, Erie Wind, LLC, California Ridge Wind Energy LLC, Bishop Hill Energy LLC, Vermont Wind, LLC, South Hurlburt Wind, LLC, Horseshoe Bend Wind, LLC, North Hurlburt Wind, LLC, Safe Harbor Water Power Corporation, Evergreen Wind Power III, LLC, Black Bear Hydro Partners, LLC, Rumford Falls Hydro LLC, Hawks Nest Hydro LLC, Great Lakes Hydro America, LLC, Erie Boulevard Hydropower, L.P., Carr Street Generating Station, L.P., Brookfield Power Piney & Deep Creek LLC, Bear Swamp Power Company LLC, Kit Carson Windpower, LLC, Top of the World Wind Energy, LLC, Stetson Wind II, LLC, Evergreen Wind Power, LLC, Canandaigua Power Partners II, LLC, Canandaigua Power Partners, LLC, Three Buttes Windpower, LLC, Silver Sage Windpower, LLC, North Allegheny Wind, LLC, High Majestic Wind Energy Center, LLC, Happy Jack Windpower, LLC, 83WI 8me, LLC.

Description: Notice of Non-Material Change in Status of 83WI 8me, LLC, et al.

Filed Date: 4/29/25.

Accession Number: 20250429-5379.

Comment Date: 5 p.m. ET 5/20/25.

Docket Numbers: ER19-2343-005; ER10-2798-022; ER10-2799-022; ER10-2878-023; ER10-2879-022; ER21-2423-011; ER21-2424-011; ER22-1449-006; ER22-1450-006; ER24-762-004.

Applicants: Elevate Renewables F7, LLC, GB II New Haven LLC, GB II Connecticut LLC, Generation Bridge M&M Holdings, LLC, Generation Bridge Connecticut Holdings, LLC, Montville Power LLC, Middleton Power LLC, Devon Power LLC, Connecticut Jet Power LLC, 2018 ESA Project Company, LLC.

Description: Notice of Non-Material Change in Status of 2018 ESA Project Company, LLC, et al.

Filed Date: 4/29/25.

Accession Number: 20250429-5381.

Comment Date: 5 p.m. ET 5/20/25.

Docket Numbers: ER23-2511-005; ER11-2036-018; ER19-1597-010; ER19-2527-005; ER20-902-009; ER20-1593-009; ER20-1594-008; ER20-1596-009; ER20-1597-009; ER20-1599-009; ER20-1620-010; ER20-1629-010; ER21-2767-006; ER22-414-010; ER22-1518-006; ER23-495-011; ER23-1503-004; ER23-2346-006; \ER23-2439-005; ER23-2448-006; ER23-2450-005; ER23-2451-005; ER23-2456-002; ER24-1732-002; ER24-2103-004; ER24-2327-004; ER25-59-001; ER25-160-001.

Applicants: Morris Solar, LLC, AES Pike County Energy Storage, LLC, Calhoun County Solar Project, LLC, Keydet Solar Center, LLC, Sol Madison Solar, LLC, Platteview Solar, LLC, Great Cove Solar II LLC, Great Cove Solar LLC, Tunica Windpower LLC, Cavalier Solar A2, LLC, Oak Ridge Solar, LLC, Cavalier Solar A, LLC, AES CE Solutions, LLC, Laurel Mountain BESS, LLC, AES Marketing and Trading, LLC, Skipjack Solar Center, LLC, AES ES Alamitos, LLC, AES Solutions Management, LLC, Richmond Spider Solar, LLC, Pleinmont Solar 2, LLC, Pleinmont Solar 1, LLC, Highlander IA, LLC, Highlander Solar Energy Station 1, LLC, sPower Energy Marketing, LLC, Prevailing Wind Park, LLC, AES Integrated Energy, LLC, AES Laurel Mountain, LLC, Hardy Hills Solar Energy LLC.

Description: Notice of Change in Status of Hardy Hills Solar Energy LLC, et al.

Filed Date: 4/28/25.

Accession Number: 20250428-5310.

Comment Date: 5 p.m. ET 5/19/25.

Docket Numbers: ER24-3011-001; ER17-2580-004; ER24-2238-001; ER24-2239-001; ER24-2240-001; ER24-2242-001; ER24-2243-001; ER24-3097-001; ER24-3098-001; ER24-3099-001; ER24-3100-001.

Applicants: Reworld Plymouth, LLC, Reworld Fairfax, LLC, Reworld Essex Company, Reworld Delaware Valley, L.P., Reworld Union (NJ), LLC, Reworld REC, LLC, Reworld Niagara I, LLC, Reworld Hempstead Company, Reworld Haverhill Associates, LLC, SEMASS Partnership, Reworld Camden County, L.P.

Description: Notice of Non-Material Change in Status of Reworld Camden County, L.P., et al.

Filed Date: 4/29/25.

Accession Number: 20250429-5380.

Comment Date: 5 p.m. ET 5/20/25.

Docket Numbers: ER25-451-001; ER10-3116-015; ER10-3120-017; ER10-3128-017; ER10-3145-018; ER11-2701-019; ER15-760-020; ER15-762-023; ER15-1579-021; ER15-1582-022; ER15-1914-023; ER15-2680-019; ER16-468-017; ER16-474-018; ER16-890-018; ER16-1255-020; ER16-1738-017; ER16-1901-017; ER16-1955-017; ER16-1956-017; ER16-1973-017; ER16-2201-016; ER16-2224-016; ER16-2578-017; ER17-306-016; ER17-544-016; ER17-1864-015; ER17-1871-015; ER17-1909-015; ER18-1667-012; ER18-2492-013; ER19-846-012; ER19-847-012; ER19-1473-007; ER19-1474-006; ER19-1597-009; ER20-902-008; ER20-1620-009; ER20-1629-009; ER20-2065-007; ER20-2066-007; ER20-2519-006; ER21-1488-007; ER21-2156-007; ER21-2766-006; ER22-414-009; ER22-799-007; ER23-48-005; ER23-495-010; ER23-937-004; ER23-1165-003; ER23-1319-004; ER23-1589-004; ER23-1668-005; ER23-1669-005; ER23-2440-003; ER23-2441-004; ER24-55-004; ER24-1035-004; ER24-1697-002; ER24-1698-003; ER24-2148-002.

Applicants: McFarland Storage C, LLC, AES ES Alamitos 2, LLC, AES Westwing II ES, LLC, 20SD 8me LLC, Silver Peak Energy, LLC, Chevelon Butte RE II LLC, McFarland Solar B, LLC, Raceway Solar 1, LLC, Estrella Solar, LLC, AES ES Westwing, LLC, Baldy Mesa Solar, LLC, McFarland Solar A, LLC, Chevelon Butte RE LLC, AES CE Solutions, LLC, West Line Solar, LLC, Lancaster Area Battery Storage, LLC, AES Marketing and Trading, LLC, Central Line Solar, LLC, Antelope Expansion 1B, LLC, Luna Storage, LLC, East Line Solar, LLC, Antelope Expansion 3B, LLC, Antelope Expansion 3A, LLC, AES ES Tait, LLC, AES Solutions Management, LLC, sPower Energy Marketing, LLC, AES Integrated Energy, LLC, AES Huntington Beach Energy, LLC, AES Alamitos Energy, LLC, San Pablo Raceway, LLC, Antelope DSR 3, LLC, FTS Master Tenant 2, LLC, Antelope Expansion 2, LLC, Bayshore Solar C, LLC, Bayshore Solar B, LLC, Bayshore Solar A, LLC, Beacon Solar 1, LLC, Beacon Solar 3, LLC, North Lancaster Ranch LLC, Solverde 1, LLC, Antelope DSR 1, LLC, Western Antelope Blue Sky Ranch B LLC, Western Antelope Dry Ranch LLC, Antelope DSR 2, LLC, Elevation Solar C LLC, Beacon Solar 4, LLC, Antelope Big Sky Ranch LLC, Summer Solar LLC, Central Antelope Dry Ranch C LLC, FTS Master Tenant 1, LLC, Sandstone Solar LLC, 87RL 8me LLC, 65HK 8me LLC, 67RK 8me LLC, Sierra Solar Greenworks LLC, Western Antelope Blue Sky Ranch A LLC, Mountain View Power Partners IV, LLC, AES Alamitos, LLC, AES Redondo Beach, L.L.C., AES Huntington Beach, L.L.C., AES Energy Storage, LLC, 50LW 8me LLC.

Description: Notice of Non-Material Change in Status of 50LW 8me LLC, et al.

Filed Date: 4/28/25.

Accession Number: 20250428-5309.

Comment Date: 5 p.m. ET 5/19/25.

Docket Numbers: ER25-2081-000; ER10-1781-010; ER19-2626-012; ER21-714-013; ER22-381-016; ER22-399-008; ER23-2321-006.

Applicants: Dunns Bridge Energy Storage, LLC, Meadow Lake Solar Park LLC, Dunns Bridge Solar Center, LLC, Indiana Crossroads Wind Farm LLC, Rosewater Wind Farm LLC, Northern Indiana Public Service Company, Fairbanks Solar Energy Center LLC.

Description: Notice of Non-Material Change in Status and Market-Based Rate Tariff Revisions of Fairbanks Solar Energy Center LLC, et al.

Filed Date: 4/29/25.

Accession Number: 20250429-5385.

Comment Date: 5 p.m. ET 5/20/25.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, community organization, Tribal members and others, access publicly available information and navigate Commission processes. For public inquiries and assistance with making filings such as interventions, comments, or requests for rehearing, the public is encouraged to contact OPP at (202) 502-6595 or OPP@ferc.gov.

Dated: May 5, 2025.
Carlos D. Clay,
Deputy Secretary

[FR Doc. 2025-08225 Filed 5-9-25; 8:45 am]

BILLING CODE 6717-01-P